DEPARTMENT OF THE TREASURY

Alcohol and Tobacco Tax and Trade Bureau

27 CFR Parts 4, 5, and 7

[Notice No. 48; Re: Notice No. 41]

RIN 1513-AB07

Labeling and Advertising of Wines, Distilled Spirits and Malt Beverages; Comment Period Extension

AGENCY: Alcohol and Tobacco Tax and Trade Bureau, Treasury.

ACTION: Advance notice of proposed rulemaking; extension of comment period.

SUMMARY: In response to industry member requests, the Alcohol and Tobacco Tax and Trade Bureau extends the comment period for Notice No. 41, Labeling and Advertising of Wines, Distilled Spirits, and Malt Beverages, an advance notice of proposed rulemaking published in the Federal Register on April 29, 2005, for an additional 90 days.

DATES: Written comments must be received on or before September 26, 2005.

ADDRESSES: You may send comments to any of the following addresses:

• Chief, Regulations and Procedures Division, Alcohol and Tobacco Tax and Trade Bureau, Attn: Notice No. 41, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this extension notice, Notice No. 41, the petitions, and any comments we receive by appointment at the TTB Library, 1310 G Street, NW., Washington, DC 20220. To make an appointment, call 202-927-2400. You may also access copies of this extension notice, Notice No. 41, and the related comments online at http://www.ttb.gov/alcohol/rules/index.htm.

FOR FURTHER INFORMATION CONTACT: Lisa M. Gesser, Regulations and Procedures Division, Alcohol and Tobacco Tax and Trade Bureau, P.O. Box 128, Morganza, MD 20660; (301) 290-1460.

SUPPLEMENTARY INFORMATION: On April 29, 2005, the Alcohol and Tobacco Tax and Trade Bureau (TTB) published Notice No. 41, Labeling and Advertising of Wines, Distilled Spirits, and Malt Beverages; Request for Public Comment, in the Federal Register (70 FR 22274). In that advance notice of proposed rulemaking, TTB requested public comment on possible changes to the labeling and advertising requirements of alcohol beverage products regulated by TTB. When published, the comment period for Notice No. 41 was scheduled to close on June 28, 2005.

After the publication of Notice No. 41, TTB received several requests from alcohol beverage industry representatives and organizations to extend the comment period for Notice No. 41 for an additional 60 to 90 days beyond the June 28, 2005, closing date. In support of the extension request, industry members note that some of the questions posed in the notice are broad and far reaching from a policy standpoint while others are very technical and require a great deal of research and coordination within the affected industries.

In response to this request, TTB extends the comment period for Notice No. 41 for an additional 90 days. Therefore, comments on Notice No. 41 are now due on or before September 26, 2005.

Drafting Information

Lisa M. Gesser of the Regulations and Procedures Division drafted this notice.

Signed: June 16, 2005.
John J. Manfreda,
Administrator.

[FR Doc. 05-12396 Filed 6-22-05; 8:45 am]

BILLING CODE 4810-31-P